DEPARTMENT OF TRANSPORTATION

Federal Aviation Administration

14 CFR Part 39

[Docket No. 2002-NM-261-AD]

RIN 2120-AA64

Airworthiness Directives; Saab Model SAAB 2000 Series Airplanes

AGENCY: Federal Aviation Administration, DOT.

ACTION: Notice of proposed rulemaking (NPRM).

SUMMARY: This document proposes the adoption of a new airworthiness directive (AD) that is applicable to certain Saab Model SAAB 2000 series airplanes. This proposal would require repetitive inspections of the installation of the spoilers of the windshield wiper assemblies for discrepancies, and replacement with new spoilers if necessary. The proposal also would require eventual replacement of the spoilers of the windshield wiper assemblies with new spoilers. This action is necessary to prevent failure of the windshield wiper assembly, which could result in loss of visibility, damage to the propeller(s) and/or engine(s), or penetration of the fuselage skin and consequent rapid depressurization of the airplane. This action is intended to address the identified unsafe condition.

DATES: Comments must be received by February 23, 2004.

ADDRESSES: Submit comments in triplicate to the Federal Aviation Administration (FAA), Transport Airplane Directorate, ANM-114, Attention: Rules Docket No. 2002-NM-261-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2002-NM-261-AD” in the subject line and need not be submitted in triplicate. Comments sent via the Internet as attached electronic files must be formatted in Microsoft Word 97 or 2000 or ASCII text.

The service information referenced in the proposed rule may be obtained from Saab Aircraft AB, SAAB Aircraft Product Support, S-581.88, Linköping, Sweden. This information may be examined at the FAA, Transport Airplane Directorate, 1601 Lind Avenue, SW., Renton, Washington.

FOR FURTHER INFORMATION CONTACT: Rosanne Ryburn, Aerospace Engineer, International Branch, ANM-116, Transport Airplane Directorate, 1601 Lind Avenue, SW., Renton, Washington 98055-4056; telephone (425) 227-2139; fax (425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2002-NM-261-AD.” The postcard will be date stamped and returned to the commenter.

Availability of NPRMs

Any person may obtain a copy of this NPRM by submitting a request to the FAA, Transport Airplane Directorate, ANM-114, Attention: Rules Docket No. 2002-NM-261-AD, 1601 Lind Avenue, SW., Renton, Washington 98055-4056.

Discussion

The Luftfartsverket (LFV), which is the airworthiness authority for Sweden, notified the FAA that an unsafe condition may exist on certain Saab Model SAAB 2000 series airplanes. The LFV advises that it has received reports of findings of cracked or missing spoilers of the windshield wiper assemblies on certain airplanes listed in Saab Service Bulletin 2000-56-002 (Replacement of Windshield Wiper Spoiler), dated November 28, 1998, on which the actions specified in that service bulletin have not been done. Parts that separate from the airplane in this area can cause damage to the propeller(s), engine(s), and structure. One report indicated that, after excessive vibration and subsequent separation of a windshield wiper spoiler, the spoiler fell into the propeller and subsequently hit the wing leading edge and fuselage. Such conditions, if not corrected, could result in loss of visibility, damage to the propeller(s) and/or engine(s), or penetration of the fuselage skin and consequent rapid depressurization of the airplane.

Explanation of Relevant Service Information

Saab has issued Service Bulletin 2000-56-003, dated August 12, 2002, which describes procedures for repetitive detailed visual inspections of the installation of the spoilers of the windshield wiper assemblies for discrepancies (cracks, loose parts, deformation, general deterioration), and replacement with new spoilers if necessary. The service bulletin also describes procedures for an operational test of the windshield wipers after the inspection is done.

Saab also has issued Service Bulletin 2000-56-002, Revision 01, dated August 12, 2002, which describes procedures for replacement of the spoilers of the left and right windshield wiper assemblies with new spoilers. The replacement includes installation of a new spoiler/beam and spoiler angles. The service bulletin also describes procedures for an operational test of the windshield wipers after doing the replacement. Accomplishment of the replacement would eliminate the need for the repetitive inspections.

Accomplishment of the actions specified in the service bulletins is intended to adequately address the identified unsafe condition. The LFV classified these service bulletins as mandatory and issued Swedish airworthiness directive 1-178, dated August 15, 2002, to ensure the continued airworthiness of these airplanes in Sweden.

FAA's Conclusions

This airplane model is manufactured in Sweden and is type certificated for operation in the United States under the provisions of section 21.29 of the Federal Aviation Regulations (14 CFR 21.29) and the applicable bilateral airworthiness agreement. Pursuant to this bilateral airworthiness agreement, the LFV has kept us informed of the situation described above. We have examined the findings of the LFV, reviewed all available information, and determined that AD action is necessary for products of this type design that are certificated for operation in the United States.

Explanation of Requirements of Proposed Rule

Since an unsafe condition has been identified that is likely to exist or develop on other airplanes of the same type design registered in the United States, the proposed AD would require accomplishment of the actions specified in the service bulletins described previously, except as discussed below.

Differences Among This Proposed AD, Swedish Airworthiness Directive, and Service Information

Service Bulletin 2000-56-003 refers to a “detailed visual inspection” of the left and right spoiler installation of the windshield wiper assemblies. We have determined that the procedures in the service bulletin should be described as a “detailed inspection.” Note 1 has been included in this proposed AD to define this type of inspection.

Service Bulletin 2000-56-002 and the referenced Swedish airworthiness directive do not give a specific compliance time for doing the replacement. The Swedish airworthiness directive does not recommend any compliance time, and the service bulletin merely specifies that compliance with the service bulletin is “recommended.” We have determined that a specific compliance time is necessary to ensure that operators address the unsafe condition in a timely manner. In developing an appropriate compliance time for this proposed AD, we considered not only the safety implications and the LFVs recommendations, but the manufacturer's recommendation and the degree of urgency associated with addressing the subject unsafe condition, the average utilization of the affected fleet, and the time necessary to do the proposed replacement (6 hours). In light of all of these factors, we find a compliance time of “Within 2,000 flight cycles after the effective date of this AD” for doing the proposed replacement to be warranted, in that it represents an appropriate interval of time allowable for affected airplanes to continue to operate without compromising safety.

Cost Impact

The FAA estimates that 3 airplanes of U.S. registry would be affected by this proposed AD.

It would take about 1 work hour per airplane to do the proposed inspection, at an average labor rate of $65 per work hour. Based on these figures, the cost impact of the inspection proposed by this AD on U.S. operators is estimated to be $195, or $65 per airplane, per inspection cycle.

It would take about 6 work hours per airplane to do the proposed replacement at an average labor rate of $65 per work hour. Required parts would be free of charge. Based on these figures, the cost impact of the replacement proposed by this AD on U.S. operators is estimated to be $1,170, or $390 per airplane.

The cost impact figures discussed above are based on assumptions that no operator has yet accomplished any of the proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

Saab Aircraft AB: Docket 2002-NM-261-AD.

Applicability: Model SAAB 2000 series airplanes, as listed in Saab Service Bulletin 2000-56-003, dated August 12, 2002, certificated in any category.

Compliance: Required as indicated, unless accomplished previously.

To prevent failure of the windshield wiper assembly, which could result in loss of visibility, damage to the propeller(s) and/or engine(s), or penetration of the fuselage skin and consequent rapid depressurization of the airplane, accomplish the following:

Repetitive Inspections

(a) Within 400 flight hours after the effective date of this AD: Do a detailed inspection for discrepancies (including cracks, loose parts, deformation, general deterioration) of the installation of the spoilers of the windshield wiper assemblies (including doing an operational test), by doing all the actions per the Accomplishment Instructions of Saab Service Bulletin 2000-56-003, dated August 12, 2002.

Note 1: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

(1) If no discrepancies are found, repeat the inspection thereafter at intervals not to exceed 400 flight hours, until the replacement required by paragraph (b) of this AD is done.

(2) If any discrepancies are found, before further flight, do the replacement required by paragraph (b) of this AD.

Replacement

(b) Except as required by paragraph (a)(2) of this AD: Within 2,000 flight cycles after the effective date of this AD; replace the spoilers of the windshield wiper assemblies (including doing an operational test) by doing all the actions per the Accomplishment Instructions of Saab Service Bulletin 2000-56-002, Revision 01, dated August 12, 2002. Such replacement ends the repetitive inspections required by this AD.

Replacement Done Per Previous Issue of Service Bulletin

(c) Replacements done before the effective date of this AD per Saab Service Bulletin 2000-56-002, dated November 28, 1996, are considered acceptable for compliance with the corresponding action specified in this AD.

Alternative Methods of Compliance

(d) In accordance with 14 CFR 39.19, the Manager, International Branch, ANM-116, Transport Airplane Directorate, FAA, is authorized to approve alternative methods of compliance for this AD.

Note 2: The subject of this AD is addressed in Swedish airworthiness directive 1-178, dated August 15, 2002.

Issued in Renton, Washington, on January 9, 2004.
Kalene C. Yanamura,
Acting Manager, Transport Airplane Directorate, Aircraft Certification Service.

[FR Doc. 04-1305 Filed 1-21-04; 8:45 am]

BILLING CODE 4910-13-P